ENVIRONMENTAL PROTECTION AGENCY

[EPA-HQ-OEI-2009-0328, FRL-8909-4]

Agency Information Collection Activities; Proposed Collection; Comment Request; Regulations.gov Information Collection; OMB Control No. 2025-0008, EPA ICR No. 2357.02

AGENCY: Environmental Protection Agency (EPA).

ACTION: Notice.

SUMMARY: In compliance with the Paperwork Reduction Act (PRA) (44 U.S.C. 3501 et seq.), this document announces that EPA is planning to submit a request to replace an emergency Information Collection Request (ICR) to the Office of Management and Budget (OMB). This emergency ICR was approved by OMB on May 18, 2009. Before submitting this ICR to OMB for review and approval, EPA is soliciting comments on specific aspects of the proposed information collection as described below.

DATES: Comments must be submitted on or before July 27, 2009.

ADDRESSES: Submit your comments, referencing Docket ID No. EPA-HQ-OEI-2009-0328, to (1) EPA online using www.regulations.gov (our preferred method), by e-mail to brackett.shanita@epa.gov, by mail to: EPA Docket Center, Environmental Protection Agency, mail code 28221T, 1200 Pennsylvania Ave., NW., Washington, DC 20460, or by hand delivery: EPA Docket Center, EPA West Bldg, Room 3334, 1301 Constitution Ave. NW., Washington, DC 20460. Such deliveries are only accepted during the Docket's normal hours of operation.

FOR FURTHER INFORMATION CONTACT: Shanita Brackett, OEI/OIC/CStD at the Environmental Protection Agency, 1200 Pennsylvania Ave., NW., (MC 2822-T), Washington, DC 20460; telephone number (202) 566-1008; fax number(202) 566-1611: e-mail address: brackett.shanita@epa.gov.

SUPPLEMENTARY INFORMATION:

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments.

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the ICR title on the first page of your response. You may also provide the Federal Register citation.

What Information Collection Activity or ICR Does this Apply To?

Title: Regulations.gov Information Collection.

OMB Control Number: 2025-0008.

Abstract: In response to the Presidential memorandum, the eRulemaking Program will launch the Regulations.gov ‘feedback exchange' Web site in May 2009. This interactive Web site will showcase new technologies being considered for Regulations.gov. The ‘feedback exchange' will serve as a learning laboratory for open government, enabling the public to provide input on the Regulations.gov interface, build a community of practice on the Federal regulatory development process, and ensure that the eRulemaking Program can efficiently manage federal resources by testing new tools before they are launched.

The Regulations.gov ‘feedback exchange' Web site will provide the public with a preview of new technologies considered for Regulations.gov. It will also enable the public to provide feedback on these technologies. Technologies considered for the Regulations.gov ‘feedback exchange' include: User Profiles; Comment Threads and Wikis; Ratings, Polls, and Tagging; an interactive Educational Tool; and an Information Export capability. These technologies will be deployed iteratively, with components deployed upon the site's release in May 2009 and during subsequent upgrades to the Web site. User profiles enable the public to register on the site and pre-load submitter information for later use as well as save their own personalized searches, RSS feeds, and e-mail alerts without the use of persistent cookies. Comment Threads allow the public to enter into virtual conversations with one another about a topic. Wikis enable the public to collaboratively develop and modify narrative descriptions about a topic. Ratings and Polls allow the public to indicate a preference for a topic or issue via the selection of stars or thumbs up/thumbs down icons which graphically provide an at-a-glance indication of public sentiment and can simplify navigation. Tagging provides the public with the ability to tag or label information they or someone else has posted to the site to ease navigation and to promote the formation of common interest categories. The Educational Tool will inform the public about the Federal rulemaking process through interactive text and images. The Data Export capability enables the public to download and review the contents of a rulemaking docket as well as mix and match such information with other information in a new way (also known as a “mash-up”). The Regulations.gov “feedback exchange” will rely on feedback from Government, Industry, Academia and Citizenry to improve Regulations.gov as time goes on.

Burden Statement: The annual public reporting and recordkeeping burden for this collection of information is estimated to average 35 hours per year. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Affected Entities: Anyone that chooses to visit Regulations.gov.

Estimated Total Number of Potential Respondents: 1,000.

Estimated Total Number of Potential Responses: 7,000.

Frequency of Response: Occasionally.

Estimated Total Annual Burden Hours: 35 hours.

Estimated Total Annual Capital and Operations and Maintenance Costs: $ 0.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the person listed under FOR FURTHER INFORMATION CONTACT.

Dated: May 19, 2009.
John Moses,
Director, Collection Strategies Division.

[FR Doc. E9-12132 Filed 5-22-09; 8:45 am]

BILLING CODE 6560-50-P